FEDERAL TRADE COMMISSION

Sunshine Act Meeting Notice

AGENCY: Federal Trade Commission

Time and Date: 10 a.m., Tuesday, January 13, 2004.

Place: Federal Trade Commission Building, Room 532, 600 Pennsylvania Avenue, NW., Washington, DC 20580.

Status: Part of this meeting will be open to the public. The rest of the meeting will be closed to the public.

Matters to be Considered: Portion open to public:

(1) Oral argument in the matter of South Carolina State Board of Dentistry. Docket 9311.

Portion closed to the public:

(2) Executive session to follow oral argument in South Carolina State Board of Dentistry. Docket 9311.

Contact Person for More Information: Mitch Katz, Office of Public Affairs: (202) 326-2180; Recorded message: (202) 326-2711.

Donald S. Clark,
Secretary.

[FR Doc. 04-552 Filed 1-7-04; 11:44 am]

BILLING CODE 6750-01-M